FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier Ocean Transportation Intermediary Applicants

Henry's Leads Inc. dba Henry's Ocean Freight, 7102 Drew Hill Lane, Chapel Hill, NC 27514. Officers: Qiang Fu, President (Qualifying Individual), Lixin Bai, Vice President.

Transworld Logistics, LLC, 1720 S. Norfolk Lane, Anaheim, CA 92802. Officers: Tahnee Kang, President (Qualifying Individual), Myung Hui Huh, Operating Manager.

H Shipping, Inc. dba Pumyang Worldwide Shipping, 15934 S. Figueroa Street, Gardena, CA 90248. Officer: Hyun Chul Lee, President (Qualifying Individual).

Newport Container Line, Inc., 5250 W. Century Blvd., Suite 602, Los Angeles, CA 90045. Officers: Mohammed Baki, Vice President (Qualifying Individual). Patrick Kwok, President/CEO.

Non-Vessel—Operating Common Carrier and Ocean Freight Forwarder Transportation Intermediary Applicants

Aegis International, Inc., 23 Serenity Court, Southampton, NJ 08088. Officers: Charles E. Godfrey, President (Qualifying Individual), Sandra C. Shaw, Secretary.

Tramex Corporation, 7270 NW 35 Terrace, Suite #202, Miami, FL 33122. Officers: Cesar Lizarzaburu, President (Qualifying Individual), Ana Maria Lizarzaburu, Secretary.

Gold Coast Shipping, LLC, 2964 Main Street, Hartford, CT 06120. Officer: Micheal A. Wiafe, President (Qualifying Individual).

Integrated Freight Solutions, Inc., 851 Hinckley Road, Burlingame, CA 94010. Officers: Mark Taro Yamasaki, Secretary (Qualifying Individual), Henry Lung, President.

Ocean Freight Forwarder—Ocean Transportation Intermediary Applicants

Seastar International, LLC, 46 Country Club Blvd., Scotch Plains, NJ 07076. Officer: Ying Zhao, Owner (Qualifying Individual).

First Class Exporters, 1147 Willing Ham Drive, East Point, GA 30344. Officers: Frank Obeng, Partner (Qualifying Individual), Elizabeth Lowe, Partner.

Dated: May 25, 2007.
Bryant L. VanBrakle,
Secretary.

[FR Doc. E7-10498 Filed 5-30-07; 8:45 am]

BILLING CODE 6730-01-P